FEDERAL COMMUNICATIONS COMMISSION

47 CFR Part 73

[DA 00-1395; MM Docket No. 99-276; RM-9702]

Radio Broadcasting Services; Tillamook and Scappoose, OR

AGENCY: Federal Communications Commission.

ACTION: Final rule.

SUMMARY: The Commission, at the request of Thunderegg Wireless, L.L.C., licensee of Station KJUN, Tillamook, OR, reallots Channel 281C3 from Tillamook to Scappoose, OR, as the community's first local aural service, and modifies the license of Station KJUN to specify Scappoose as its community of license. See 64 FR 50266, September 16, 1999. Channel 281C3 can be allotted to Scappoose in compliance with the Commission's minimum distance separation requirements with a site restriction of 6.5 kilometers (4.1 miles) northwest, at coordinates 45-46-58 NL; 122-57-13 WL, to accommodate petitioner's desired transmitter site. Canadian concurrence in the allotment has been obtained since Scappoose is located within 320 kilometers (200 miles) of the U.S.-Canadian border.

DATES: Effective August 7, 2000.

FOR FURTHER INFORMATION CONTACT: Leslie K. Shapiro, Mass Media Bureau, (202) 418-2180.

SUPPLEMENTARY INFORMATION: This is a synopsis of the Commission's Report and Order, MM Docket No. 99-276, adopted June 14, 2000, and released June 23, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under Oregon, is amended by removing Channel 281C3 at Tillamook and adding Scappoose, Channel 281C3.

Federal Communications Commission.
John A. Karousos,
Chief, Allocations Branch, Policy and Rules Division, Mass Media Bureau.

[FR Doc. 00-16866 Filed 7-3-00; 8:45 am]

BILLING CODE 6712-01-U